DEPARTMENT OF ENERGY

Federal Energy Regulatory Commission

[Project No. 2232-650]

Duke Energy Carolinas, LLC; Notice of Application Accepted for Filing and Soliciting Comments, Motions To Intervene, and Protests

Take notice that the following hydroelectric application has been filed with the Commission and is available for public inspection:

a. Application Type: Shoreline Management Plan.

b. Project No: 2232-650.

c. Date Filed: October 4, 2016 and November 4, 2016 (dated October 3, 2016).

d. Applicant: Duke Energy Carolinas, LLC.

e. Name of Project: Catawba-Wateree Hydroelectric Project.

f. Location: Burke, McDowell, Caldwell, Catawba, Alexander, Iredell, Mecklenburg, Lincoln, and Gaston Counties, North Carolina, and York, Lancaster, Chester, Fairfield, and Kershaw Counties in South Carolina.

g. Filed Pursuant to: Federal Power Act, 16 U.S.C. 791a-825r.

h. Applicant Contact: Kelvin Reagan, Lake Services—Duke Energy Carolinas, 526 South Church Street, Charlotte, North Carolina 28202, 704 382-9386 or email at Kelvin.Reagan@duke-energy.com.

i. FERC Contact: Jon Cofrancesco at (202) 502-8951, or email: jon.cofrancesco@ferc.gov.

j. Deadline for filing comments, motions to intervene, and protests: February 24, 2017.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-2232-650) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Pursuant to license article 409, in part, Duke Energy Carolinas, LLC (licensee) filed, for Commission approval, an updated shoreline management plan (SMP) for the Catawba-Wateree Project incorporating the 2003 Commission-approved SMP, as amended. As required, the updated SMP includes: (1) A provision for addressing any licensee-requested authority to make changes to the SMP, shoreline classification maps, or shoreline management guidelines without prior Commission approval; (2) a provision for addressing how and when shoreline reclassification requests, including identified mapping errors, will be filed with the Commission for approval; and (3) a provision for filing a report with the Commission every 10 years describing whether or not revisions to the SMP, are needed. The updated SMP also includes, as required, revised shoreline classification maps that incorporate the proposed shoreline classification maps included in the license application filed August 29, 2006 and the proposed shoreline management guidelines included in the Comprehensive Relicensing Agreement filed on December 29, 2006.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-2232) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 25, 2017.
Nathaniel J. Davis, Sr.,
Deputy Secretary.

[FR Doc. 2017-02041 Filed 1-30-17; 8:45 am]

BILLING CODE 6717-01-P